DEPARTMENT OF ENERGY

Energy Information Administration

Agency Information Collection Extension

AGENCY: U.S. Energy Information Administration (EIA), Department of Energy (DOE).

ACTION: Notice.

SUMMARY: EIA has submitted an information collection request to OMB for extension under the provisions of the Paperwork Reduction Act of 1995. The information collection requests a three-year extension with changes of its Natural Gas Data Collection Program, under OMB Control No. 1905-0175. The proposed collection will provide information on the supply and disposition of natural gas within the United States.

DATES: Comments regarding this information collection must be received on or before November 27, 2017. If you anticipate that you will be submitting comments, but find it difficult to do so within the period of time allowed by this notice, please advise the DOE Desk Officer at OMB of your intention to make a submission as soon as possible. The Desk Officer may be telephoned at 202-395-4718.

ADDRESSES: Written comments should be sent to Chad S. Whiteman, DOE Desk Officer, Office of Information and Regulatory Affairs, Office of Management and Budget, New Executive Office Building, Room 10102, 735 17th Street NW., Washington, DC 20503, Chad S Whiteman@omb.eop.gov. and to Mr. Michael Kopalek, U.S. Department of Energy, U.S. Energy Information Administration EI-25, 1000 Independence Ave. SW., Washington, DC 20585, Michael.Kopalek@eia.gov.

FOR FURTHER INFORMATION CONTACT: Requests for additional information or copies of the information collection instrument and instructions should be directed to Michael Kopalek, 202-586-4001, Michael.kopalek@eia.gov, https://www.eia.gov/survey/notice/ngdownstreamforms2018.php.

SUPPLEMENTARY INFORMATION: This information collection request contains:

(1) OMB Control Number 1905-0175;

(2) Information Collection Request Title: Natural Gas Data Collection Program;

The surveys covered by this information collection request include:

• Form EIA-176, Annual Report of Natural and Supplemental Gas Supply and Disposition

• Form EIA-191, Monthly Underground Gas Storage Report

• Form EIA-757, Natural Gas Processing Plant Survey

• Form EIA-857, Monthly Report of Natural Gas Purchases and Deliveries to Consumers

• Form EIA-910, Monthly Natural Gas Marketer Survey

• Form EIA-912, Weekly Underground Natural Gas Storage Report

(3) Type of Request: Three-year extension with changes;

(4) Purpose: The surveys included in the Natural Gas Data Collection Program Package collect information on natural gas underground storage, supply, processing, transmission, distribution, consumption by sector, and consumer prices. This information is used to support public policy analyses of the natural gas industry and estimates generated from data collected on these surveys. The statistics generated from these surveys are posted to the EIA Web site (http://www.eia.gov) and in various EIA products, including the Weekly Natural Gas Storage Report (WNGSR), Natural Gas Monthly (NGM), Natural Gas Annual (NGA), Monthly Energy Review (MER), Short-Term Energy Outlook (STEO), Annual Energy Outlook (AEO), and Annual Energy Review (AER). EIA requests a three-year extension of collection authority for each of the above-referenced surveys with changes to Forms EIA-176, EIA-191, EIA-757, EIA-910, and EIA-912.

(4a) Proposed Changes to Information Collection:

Form EIA-176, Annual Report of Natural and Supplemental Gas Supply and Disposition

Form EIA-176 collects data on natural, synthetic, and other supplemental gas supplies, their disposition, and certain revenues by state. The changes include:

a. Add a question in Part 3(B) to ask respondents if they have an alternative-fueled vehicle fleet and how many and what kind of vehicles make up the fleet. This information improves survey frame coverage and data accuracy reported on Form EIA-886, Annual Survey of Alternative Fueled Vehicles;

b. A new section Part 3(E) asking local distribution companies to provide all the counties where they deliver natural gas for end-use consumption. This information enables EIA to estimate the approximate service territory for a local distribution company. EIA has received public inquiries about service territories associated with natural gas distributors and this information will be useful to EIA and the public for understanding this retail market sector.

c. Addition of a question in Part 3(F) asking respondents for the names and zip codes of any aboveground liquefied (LNG) natural gas storage facilities that are owned, operated, or provide services to a survey respondent. This enables EIA to facilitate collection of LNG data by operators and their locations;

d. Discontinue collecting the costs associated with purchase gas received within the service area. EIA has the capability to estimate values for this activity using monthly data. Deleting this data element reduces respondent reporting burden and relieves EIA resources used to validate the information;

e. Discontinue the collection of year-end natural gas pump price in Part 3 Item B4. EIA determined that this question had large variation in data quality and inconsistent reporting methodologies.

f. Move Part 6 Line 12.4 (from the drop down menu selection) sub-item 9096, “Other Natural gas consumed in your operations: Vaporization/LNG Fuel,” to make it a standalone line item as new Line 12.4, called “Vaporization/Liquefaction/LNG Fuel.” The collection of “Other Natural Gas” consumed in operations that was previously listed on Line 12.4 will be shown as a new Line 12.6 in Part 6 with the three other drop down choices (Utilities Use, Other, and Other Expenses) available to the user. In the past, many respondents have missed reporting this data element. The change is designed to improve the coverage and accuracy of respondents reporting this information and will assist EIA in its modeling and analysis; and

g. Add a question in Part 6 Line 12.5, “Vehicle fuel used in company fleet” to collect information on fuel consumption by company vehicles. Based on cognitive testing of Form EIA-176 form, respondents were reporting natural gas vehicle fuel for their own company fleet as company use. This affects the accuracy of the vehicle fuel volumes and prices reported in Part 6 Items 10.5 and 11.5. Company consumption volumes do not have associated revenue and should not be included in 10.5 and 11.5. Adding this question gives respondents a place on Form EIA-176 to report company-owned vehicle fuel volumes and improve the accuracy of vehicle fuel prices based on Part 6 Items 10.5 and 11.5.

Form EIA-191, Monthly Underground Gas Storage Report

Form EIA-191 collects data on the operations of all active underground storage facilities. EIA is making the following changes to Form EIA-191:

a. Remove “Other” as a response option under “type of facility” question in Part 3 of the survey form. Respondents have not utilized this category for classifying their facilities. This open ended facility category did not provide its intended utility and as a result EIA is deleting it.

Form EIA-757, Natural Gas Processing Plant Survey

Form EIA-757 collects information on the capacity, status, and operations of natural gas processing plants, and monitors their constraints to natural gas supplies during catastrophic events, such as hurricanes. Schedule A of Form EIA-757 is used to collect data every three years. Schedule A collects baseline operating and capacity information from all respondents. Schedule A was used to collect information in 2015 and the next planned collection for Schedule A is 2018. Schedule B is activated as needed and collects data from a sample of respondents in affected areas as needed. Schedule B was last activated in 2012 when Hurricane Isaac damaged energy supply infrastructure along the Gulf Coast. A sample of approximately 20 plants reported in 2012 during that supply disruption. EIA is continuing the collection of the same data elements on Form EIA-757 Schedules A and B in their present form with two protocol changes:

a. Collect Schedule A data for new natural gas processing plants that opened and began operations during the current three-year data collection cycles. This minor protocol change allows EIA to maintain a current frame at all times rather than updating the survey frame every three years when a new data collection cycle begins;

b. Collect “processing throughput capacity” information in Schedule A on an annual basis. This allows EIA to track recent changes in natural gas processing plant capacities, a key piece of information needed for using Form EIA-757 Schedule B Emergency Activation portion of the survey during a natural disaster or similar crisis situation.

Form EIA-912 Weekly Underground Natural Gas Storage Report

Form EIA-912 collects information on weekly inventories of natural gas in underground storage facilities. This is one change to Form EIA-912 to include an additional geographic data element for Inventory of Working Gas in Storage as described below:

a. Divide the “South Central” reporting region into “South Central Salt” and “South Central Nonsalt.” Currently EIA categorizes storage operators as either Salt facilities or Nonsalt facilities and allocates their volumes entirely to that region. This change would require respondents to allocate volumes in their reported data between Salt facilities and Nonsalt facilities in order to improve the accuracy of EIA's published estimates on underground storage. For example, under the current methodology, volumes reported by a respondent with majority salt storage would be allocated entirely to the “South Central Salt” region, even if nearly half of their volumes were stored in nonsalt facilities. Currently, operators with more than 15 billion cubic feet of storage capacity in the South Central region report volumes separately between Salt facilities or Nonsalt facilities. This change will require all operators in the reporting sample to report the same way.

(5) Annual Estimated Number of Survey Respondents: 3,340.

EIA-176 consists of 2,050 respondents.

EIA-191 consists of 145 respondents.

EIA-757 Schedule A consists of 600 respondents.

EIA-757 Schedule B consists of 20 respondents.

EIA-857 consists of 330 respondents.

EIA-910 consists of 100 respondents.

EIA-912 consists of 95 respondents.

(6) Annual Estimated Number of Total Responses: 14,227.

(7) Annual Estimated Number of Burden Hours: 50,724.

(8) Annual Estimated Reporting and Recordkeeping Cost Burden: The information is maintained in the normal course of business. The cost of the burden hours is estimated to be $3,736, 330 (50,724 burden hours times $73.66 per hour). Other than the cost of burden hours, EIA estimates that there are no additional costs for generating, maintaining and providing the information.

Statutory Authority: Section 13(b) of the Federal Energy Administration Act of 1974, Pub. L. 93-275, codified as 15 U.S.C. 772(b) and the DOE Organization Act of 1977, Pub. L. 95-91, codified at 42 U.S.C. 7101 et seq.

Issued in Washington, DC on October 17, 2017.
Nanda Srinivasan,
Director, Office of Survey Development and Statistical Integration, U.S. Energy Information Administration.

[FR Doc. 2017-23398 Filed 10-26-17; 8:45 am]

BILLING CODE 6450-01-P